DEPARTMENT OF THE INTERIOR

Bureau of Indian Affairs

Land Acquisitions; Habematolel Pomo of Upper Lake, CA

AGENCY: Bureau of Indian Affairs, Interior.

ACTION: Notice of Final Agency Determination to take land into trust under 25 CFR part 151.

SUMMARY: The Acting Deputy Assistant Secretary for Policy and Economic Development made a final agency determination to acquire approximately 11.24 acres of land into trust for the Habematolel Pomo of Upper Lake of California on September 8, 2008. This notice is published in the exercise of authority delegated by the Secretary of the Interior to the Assistant Secretary—Indian Affairs by 209 Departmental Manual 8.1. The duties of the Assistant Secretary—Indian Affairs were delegated to the Acting Deputy Assistant Secretary for Policy and Economic Development on May 23, 2008.

FOR FURTHER INFORMATION CONTACT: Paula Hart, Office of Indian Gaming, MS-3657 MIB, 1849 C Street, NW., Washington, DC 20240; Telephone (202) 219-4066.

SUPPLEMENTARY INFORMATION: This notice is published to comply with the requirement of 25 CFR part 151.12(b) that notice be given to the public of the Secretary's decision to acquire land in trust at least 30 days prior to signatory acceptance of the land into trust. The purpose of the 30-day waiting period in 25 CFR part 151.12(b) is to afford interested parties the opportunity to seek judicial review of final administrative decisions to take land in trust for Indian tribes and individual Indians before transfer of title to the property occurs. On September 8, 2008, the Acting Deputy Assistant Secretary for Policy and Economic Development decided to accept approximately 11.24 acres of land into trust for the Habematolel Pomo of Upper Lake of California under the authority of the Indian Reorganization Act of 1934, 25 U.S.C. 465. The 11.24 acres are located in Upper Lake, Lake County, California. The parcel will be used for the development and operation of a class II and class III gaming facility.

The land proposed for acquisition is referred to herein below and is situated the unincorporated area, County of Lake, State of California, and is described as follows:

All that property within a portion of Section 7, Township 15 North, Range 9 West, M.D.B. & M., in the County of Lake, State of California, and being a portion of those lands described by those Grant Deeds to Luna Gaming-Upper Lake LLC, one filed February 15, 2006 as Document Number 2006003927, and one filed February 17, 2006 as Document Number 2006004152, Lake County Records, described as the following three parcels:

Parcel One

Beginning at a point on the southerly line of Ukiah Tahoe State Highway No. 20 that is South 83°56′ East, measured along the southerly line of said State Highway 237.7 feet from the Northwest corner of Tract Two, as said Tract Two is described in that certain deed from Ruth C. Polk, a widow, and Elysse P. Twedt, her daughter, to Robert C. Polk, et ux, as joint tenants, dated August 6, 1959, and of record in Book 316 of Official Records of Lake County at Page 208, and running thence from said point of beginning South 12°57′ West to a point that is due East of a point that is North 0°09′ West 3009.76 feet from 1¼-inch iron pipe that is West 653.07 feet from the center of Section 18, Township 15 North, Range 9 West, M.D.M.; thence East to the Southerly terminal end of that certain course given as North 12°50′30″ East 1381.46 feet on said Polk deed; thence along the Easterly line of said Polk tract North 12°50′30″ West 1381.46 feet to an iron pipe on the Southerly line of said Highway; and thence along the Southerly line of said Highway North 83°56′ West 237.7 feet to the point of beginning.

Parcel Two

Beginning at a 1¼-inch iron pipe that is West 653.07 feet from the center of Section 18, Township 15 North, Range 9 West, M.D.M., and running thence from said point of beginning North 0°09′ West 1504.88 feet; thence West to the Westerly line of that certain tract described as Tract Two in a deed from Ruth H. Polk and Elysse P. Twedt, her daughter, to Robert C. Polk, et ux, dated August 6, 1959, and of record in Book 316 of Official Records of Lake County at Page 208; thence along the Westerly line of said tract so conveyed to Robert C. Polk, et ux, South to the Southwest corner thereof; and thence along the South line of said tract so conveyed to Robert C. Polk, et ux, East 677.07 feet to the point of beginning.

Parcel Three

Beginning at a point on the Southerly line of the Ukiah-Tahoe State Highway No. 20 that is South 12°57′ West, from a point on the centerline of Section 7, Township 15 North, Range 9 West, M.D.M., that is West 317.2 feet from the center of said Section, and running thence from said point of beginning, South 12°57′ West to a point that is South 12°57′ West 2311.5 feet from a point on the centerline of said Section that is West 317.2 feet from the center of said Section; thence West 219 feet to the East line of the lands formerly owned of record by Charles W. Sailor; thence along the East line of said former Sailor lands South 00°30′ West 241.2 feet; thence along the Southerly line of said former Sailors lands North 82½° West 265.4 feet to the East line of Lot 4 of said Section 7, said last mentioned point being on the East line of said former Sailor lands; thence South, along the East line of said Lot 4 2.50 chains, more or less, to the Northwest corner of the East half of the Northwest quarter of Section 18, Township 15 North, Range 9 West, M.D.M.; thence South to a point that is due West of a point that is North 0°09′ West 1504.88 feet from a 1¼-inch pipe that is West 653.07 feet from the center of said Section 18; thence East to said point that is North 0°09′ West 1504.88 feet from a 1¼-inch iron pipe that is West 653.07 feet from the center of said Section 18; thence North 0°09′ West 1504.88 feet; thence East to a point that is South 12°57' West from a point on the Southerly line of said State Highway that is South 83°56′ East 237.7 feet from the point of beginning; thence North 12°57′ East to said point on the Southerly line of said State Highway that is South 83°56′ East, measured along the Southerly line of said State Highway, 237.7 feet from the point of beginning; thence along the Southerly line of said State Highway North 83°56′ West 237.7 feet to the point of beginning.

Excepting Therefrom all that portion lying Southerly of a line beginning at a point on the Easterly boundary line of those lands described as Parcel One of said Document Number 2006003927, said point bears North 15°23′31″ East (North 12°50′30″ East per said Document) as shown on that map filed September 18, 2006, in Book 80 of Record of Surveys, Pages 23, 24 and 25, 302.47 feet from the Southeast corner of said Parcel One, said corner being a ½″ Rebar capped LS 7588 per said Record Survey Map; thence leaving said Easterly boundary line North 78°36′11″ West 216.24 feet; thence South 72°22′05″ West 260.75 feet to a point on the Westerly boundary line of those lands described by said Document Number 2006004152, having a bearing of South 13°39′30″ West as shown on said Record of Survey Map (South 12°57′ West per said Document), said point bears North 13°39′30″ East 227.39 feet from the Southerly terminus of said boundary line, said terminus being a ½″ rebar capped LS 7588 per said Record of Survey map, pursuant to that certain Lot Line Adjustment filed July 14, 2008, Instrument No. 2008012533, Official Records Lake County.

Also Excepting Therefrom all that portion of the above-described real property lying Northerly of a line running parallel with and 20.00 feet Southerly, measured at right angles, from the Southerly right-of-way line of State Highway 20, as said highway is depicted on that certain Record of Survey filed September 18, 2006, in Book 80 of Records of Surveys at pages 23-25.

Dated: September 17, 2008.
George T. Skibine,
Acting Deputy Assistant Secretary—Policy and Economic Development.

[FR Doc. E8-23706 Filed 10-6-08; 8:45 am]

BILLING CODE 4310-4N-P